DEPARTMENT OF HOMELAND SECURITY

Federal Emergency Management Agency

Pre-Disaster Mitigation Disaster Resistant University Grants

AGENCY: Federal Emergency Management Agency, Emergency Preparedness and Response Directorate, Department of Homeland Security.

ACTION: Notice of availability of Pre-Disaster Mitigation Disaster Resistant University grants.

SUMMARY: The Federal Emergency Management Agency (FEMA) gives notice of the availability of Pre-Disaster Mitigation (PDM) Disaster Resistant University (DRU) grants. FEMA will provide PDM funds to assist universities, through State and local governments, to implement a sustained pre-disaster natural hazard mitigation program to reduce overall risk to facilities, research assets, students and faculty.

These funds will be competitively awarded with a National priority of ensuring that program funds benefit a representative range of universities, based on hazard type, size, geography, and academic community served, which includes consideration of Historically Black Colleges and Universities and Tribal Colleges and Universities. Funds are available for hazard mitigation project and planning activities at universities that have demonstrated commitment to such activities through prior DRU efforts, and for planning and project activities for universities that have not undertaken DRU activities.

DATES: States, and federally recognized Indian Tribal governments that complete grant applications must submit them on paper to the appropriate FEMA Regional Office on or before midnight, eastern time, March 1, 2004. If the non-Federal cost share requirement cannot be met by the application deadline due to pending State and/or local legislative approval or fiscal year timelines, the Applicant still must submit the application by March 1, 2004, including a notation in the Budget Narrative and a letter to the FEMA Regional Director providing an explanation and stating that the cost share will be available by March 30, 2004. The Applicant must follow-up with a written certification to the FEMA Regional Director by March 30, 2004, to verify that non-Federal cost share funding is approved and available for immediate use if the application is selected by FEMA.

ADDRESSES: FEMA Regional Offices:

FEMA Region I—Serving Maine, New Hampshire, Vermont, Rhode Island, Connecticut, and Massachusetts: J.W. McCormack POCH Building, Boston, MA 02109.

FEMA Region II—Serving New York, New Jersey, Puerto Rico, and the U.S. Virgin Islands: 26 Federal Plaza, Rm. 1307, New York, NY 10278-0001.

FEMA Region III—Serving the District of Columbia, Delaware, Maryland, Pennsylvania, Virginia, and West Virginia: 1 Independence Mall, 6th Floor, 615 Chestnut Street, Philadelphia, PA 19106-4404.

FEMA Region IV—Serving Alabama, Florida, Georgia, Kentucky, Mississippi, North Carolina, South Carolina, and Tennessee: 3003 Chamblee Tucker Road, Atlanta, GA 30341.

FEMA Region V—Serving Illinois, Indiana, Michigan, Minnesota, Ohio, and Wisconsin: 536 S. Clark Street, 6th Floor, Chicago, IL 60605.

FEMA Region VI—Serving Arkansas, Louisiana, New Mexico, Oklahoma, and Texas: FRC 800 North Loop 288, Denton, TX 76209-3698.

FEMA Region VII—Serving Iowa, Kansas, Missouri, and Nebraska: 2323 Grand Avenue, Suite 900, Kansas City, MO 64108-2670.

FEMA Region VIII—Serving Colorado, Montana, North Dakota, South Dakota, Utah, and Wyoming: Denver Federal Center, Building 710, Box 25267, Denver, CO 80225-0267.

FEMA Region IX—Serving Arizona, California, Hawaii, Nevada, the Territory of American Samoa, the Territory of Guam, and the Commonwealth of the Northern Mariana Islands: 1111 Broadway, Suite 1200, Oakland, CA 94607-4052.

FEMA Region X—Serving Alaska, Idaho, Oregon, and Washington: Federal Regional Center, 130 228th Street, SW., Bothell, WA 98021-9796.

FOR FURTHER INFORMATION CONTACT: LaBrina Jones, Office of the Director/Administrator, Mitigation Division, FEMA, 500 C Street, SW., Room 404A, Washington, DC 20472, (202) 646-4331 or E-mail: LaBrina.Jones@dhs.gov.

SUPPLEMENTARY INFORMATION:

Authority and Appropriations

The PDM program was authorized by section 203 of the Robert T. Stafford Disaster Relief and Emergency Assistance Act (Stafford Act), 42 U.S.C. 5133, as amended by section 102 of the Disaster Mitigation Act of 2000 (DMA), Public Law 106-390, 114 Stat. 1552, to assist States and communities to implement a sustained pre-disaster natural hazard mitigation program to reduce overall risk to population, buildings and infrastructure, while also reducing reliance on funding from actual disaster declarations.

$150 million was made available for the PDM grant program under Consolidated Appropriations Resolution, 2003, Public Law 108-7, to be awarded generally on a competitive basis and without reference to State allocations, quotas, or other formula-based allocation of funds. A Notice of Funds Availability for the PDM planning grants was published on March 3, 2003, at 68 FR 10018. A Notice of Funds Availability for the PDM competitive grant program was published on July 7, 2003 at 68 FR 40284.

FEMA is now making available approximately $3.6 million of PDM funds as Disaster Resistant University (DRU) grants to State, local and Tribal governments for pre-disaster mitigation activities that benefit universities.

Background

PDM Disaster-Resistant University grants are intended to support efforts by universities to reduce and manage their vulnerability to hazards. Over the past decade, disasters have cost the Federal government, private insurers, and universities billions of dollars. These costs usually arise from losses due to such impacts as damage to university facilities, or education and research interruption. For example, the 1989 Loma Prieta earthquake caused Stanford University to spend over $300 million in building repairs over 10 years. The PDM DRU grant program provides a significant opportunity to raise risk awareness and to reduce the Nation's disaster losses at universities through pre-disaster mitigation planning, and the implementation of planned, pre-identified, cost-effective mitigation measures that are designed to reduce injuries, loss of life, and damage and destruction of property from all hazards, including damage to critical facilities, and research operations.

In FY 2000, under different funding authorities, FEMA selected six DRU pilot universities, which have made significant strides to ensure that their campuses are disaster resistant. For example, “Building a Disaster Resistant University” (Appendix A), a publication that was developed and revised by pilot universities in conjunction with FEMA, will serve as a guide for universities that seek to become disaster resistant. (Guide available at www.fema.gov/fima/dru.shtm).

To build on the success and mitigation efforts of the pilot initiative for DRU and to continue supporting past DRU efforts, FEMA is making PDM funds available specifically for mitigation benefiting universities, including awards of approximately $100,000 each for mitigation activities that benefit universities, and additional awards of up to $500,000 each for pre-disaster hazard mitigation activities that benefit universities that have demonstrated commitment to hazard mitigation through prior FEMA-assisted DRU efforts.

FEMA encourages Historically Black Colleges & Universities (HBCU) and Tribal Colleges & Universities (TCU) to participate in PDM DRU activities, and encourages States to facilitate HBCU and TCU opportunities to improve their disaster resistance through risk management tools and other mitigation activities, through their respective consortia or individually. FEMA also encourages pilot DRUs to build on previous mitigation efforts by identifying and implementing mitigation projects that reduce the risk of loss for the university.

Applicant Eligibility

Only the State emergency management agencies or a similar office (i.e., the office that has emergency management responsibility) of the State, the District of Columbia, the U.S. Virgin Islands, the Commonwealth of Puerto Rico, Guam, American Samoa, and the Commonwealth of the Northern Mariana Islands, as well as Federally recognized Indian Tribal governments are eligible to apply to FEMA for assistance as Applicants under this program.

In keeping with the intent of FEMA's overall policy, “Government-to-Government Relations with American Indian and Alaska Native Tribal Governments,” published at 64 FR 2095, Jan. 12, 1999, Federally recognized Indian Tribal governments may choose to apply for PDM DRU grants either through the State as a Sub-Applicant or directly to FEMA as an Applicant. (This choice is independent of a designation under other FEMA grants and programs.) Some State regulations prohibit the State from acting as an Applicant for an Indian Tribe. In such cases, or if the Tribe chooses, the Tribal government may act as its own Applicant. However, when legally permitted, Indian Tribal governments are encouraged to continue existing relationships with the State as the Applicant.

Sub-Applicant Eligibility

Other State agencies, including State universities; federally recognized Indian Tribal governments; and local governments, to include State recognized Indian Tribes, authorized tribal organizations, and Alaska Native villages, are eligible to apply to the Applicant as Sub-Applicants. Private universities are not eligible to apply as Sub-Applicants; however, they may request an eligible entity to submit an application for their proposed activity on their behalf.

All Applicants and Sub-Applicants, or the community they are located within, must be participating in the National Flood Insurance Program (NFIP) if they have been identified through the NFIP as having a Special Flood Hazard Area (SFHA) (a Flood Hazard Boundary Map (FHBM) or Flood Insurance Rate Map (FIRM) has been issued). In addition, the community must not be on probation, suspended or withdrawn from the NFIP. If a State university in a SFHA is located within a community, and that community lacks jurisdiction to require the university to adopt floodplain management plans, the State in which the university is located must be in compliance with the floodplain management criteria in 44 CFR part 60.

Grant Application Process

Interested universities and potential Sub-Applicants should consult the official designated point of contact in their State or Tribe for more information pertaining to their application process.

It will be the Applicant's responsibility to determine which sub-applications will be included in their final application to FEMA. The Applicant also must prioritize the sub-applications included in its application to FEMA. FEMA will use the information transmitted to evaluate applications and make award decisions, monitor ongoing performance and manage the flow of Federal funds, and to closeout the grant award when all work is completed.

The Applicant will submit a paper application, which can be obtained from the FEMA Regional Office. The grant application should include:

• The Applicant's DUNS number. To obtain a DUNS number call 1-866-705-5711 or visit www.dunandbradstreet.com.

• Application for Federal Assistance, Standard Form 424;

• Budget Information—Construction Program, FEMA Form 20-15; or

• Budget Information—Non-Construction Program, FEMA Form 20-20;

• Budget Narrative explaining cost items that have been budgeted;

• Summary Sheet for Assurances and Certification, FEMA Form 20-16;

• Assurances—Non-Construction Program, FEMA Form 20-16A; or,

• Assurances—Construction Program, FEMA Form 20-16B;

• Certification Regarding Lobbying; Debarment, Suspension and Other Responsible Matters; and Drug-Free Workplace Requirements, FEMA Form 20-16C;

• Disclosure of Lobbying Activities, Standard Form LLL;

• Approved Indirect Cost Agreement, if applicable;

• Documentation for the hazard risk assessment determination. This is only required as part of mitigation planning sub-applications (see Supplemental Questions);

• Complete Benefit-Cost Analysis documentation for mitigation projects;

• Program Narrative for the sub-application for which PDM DRU funding is requested. The Applicant must priority rank each sub-application included in the Program Narrative based on the Applicant's mitigation plan. Only one sub-application should be ranked per number 1, 2, 3, etc. The Program Narrative should include:

(1) Individual activity location and name of Sub-Applicant and university;

(2) Timeline/schedule for each activity;

(3) Individual activity costs, including Federal and non-Federal shares;

(4) Activity-specific scopes of work, including a list of properties, if applicable;

(5) Certification that the Applicant has evaluated the included activities, that they meet all PDM/DRU program eligibility criteria (see www.fema.gov/fima/dru.shtm), and that they will be implemented in accordance with 44 CFR part 13, Uniform Administrative Requirements for Grants and Cooperative Agreements to State and Local Governments;

(6) Responses to the Supplemental Questions for each Sub-Applicant activity for evaluation (Supplemental Questions are available for Applicants and Sub-Applicants on the FEMA website: www.fema.gov/fima/dru.shtm);

(7) For proposals for mitigation projects: Recommendations and documentation regarding the environmental review required by 44 CFR part 10, Environmental Considerations, and other applicable laws and executive orders, including responses to Established Questions and complete environmental/historic documentation (the environmental/historic Established Questions are available for Applicants and Sub-Applicants on the FEMA Web site: www.fema.gov/fima/dru.shtm); and

(8) For proposals benefiting a former university recipient of DRU assistance: A brief description of past DRU efforts, including:

• Appointment or selection of a DRU coordinator.

• Formation of a campus partnership committee to direct the DRU activities that includes university, private sector, and local officials.

• Performance of a risk assessment to define, evaluate and prioritize the loss reduction and management activities that address the natural hazards vulnerabilities on campus.

• Development and adoption of a strategic loss reduction and management plan.

• If applicable, communication of the university's risks and plans for managing them to stimulate partnerships, and associated DRU mitigation successes.

• If applicable, implementation of a strategic loss reduction plan that identified mitigation activities.

(9) Assurance that the sub-application is complete and addresses all program requirements including the Supplemental Questions, thereby meeting the program criteria outlined under section 203(g) of the Stafford Act.

National Priorities

For FY 2003 funds, FEMA has established a national priority of providing mitigation funds to benefit a representative range of universities, based on the type of hazard addressed, geography, size, and academic community served. This includes consideration of Historically Black Colleges & Universities (HBCU) and Tribal Colleges & Universities (TCU).

FEMA encourages HBCU and TCU to participate in PDM DRU activities, and encourages States to facilitate HBCU and TCU opportunities to improve their disaster resistance through risk management tools and other mitigation activities. Communicating with these universities via their respective consortia may be the most efficient and effective means of benefiting the university's mitigation efforts. There are 117 HBCU nationwide and 34 TCU. Such institutions may be relatively small, receive less research funding, and may generally have fewer resources. For example, according to the National Center for Education Statistics, total enrollment shown at any TCU for fall 1998 did not exceed 2000 students, and only three such institutions showed enrollment over 1000. Working with a consortium can maximize DRU mitigation benefits to these institutions. Through a university consortium, universities can share expertise among the consortium members, including other HBCU or TCU. A consortium may also facilitate decisions on the allocation of future resources and program direction.

In addition, FEMA encourages universities who have demonstrated mitigation through past DRU efforts to sustain the momentum of those efforts by taking the opportunity to identify mitigation projects for implementation that can build on mitigation planning and other activities they have already accomplished.

Eligible Activities and Associated Costs

General. Proposals must be for mitigation activities that benefit a university or universities. Proposals may be for mitigation planning activities or for mitigation projects, though proposals benefiting universities demonstrating mitigation planning through past DRU efforts must include a mitigation project.

DRU Mitigation Planning. Applicants and Sub-Applicants may request mitigation planning funds to assist universities and university consortia in mitigation planning, including delivery of mitigation planning workshops, the development of risk assessments, and the development of university mitigation plans that are consistent with the planning criteria outlined in 44 CFR 201.6(b-d). Examples of planning activities to address in a mitigation plan are as follows:

• Risk assessment: Identification of hazards and vulnerabilities, an estimation of potential losses to campus facilities;

• Identification of potential mitigation actions and their priority for implementation;

• Identification of methods to foster communication with neighboring jurisdictions regarding disaster mitigation through measures such as:

(a) University collaboration activities involving faculty and/or students,

(b) Use of campus facilities for posting emergency procedures,

(c) Disaster exercises on university grounds or in conjunction with the community;

• Identification of a broad range of sources for funding and technical assistance to sustain loss reduction and risk communication activities in the future; and

• Development of a Business Continuity Plan for central administrative, teaching, and research functions.

A university consortium may request funds to carry out “model” planning activities that would be used by members of the consortium. Multi-hazard mitigation planning must primarily focus on natural hazards but may also address hazards caused by non-natural forces.

Up to 10 percent of the funds requested in the sub-application may be used for information dissemination activities regarding cost-effective mitigation technologies in order to develop and maintain mutually beneficial partnerships among the DRU pilot universities, newly selected DRUs, and with underserved communities. Such activities should strive to promote a greater awareness of the institutional benefits of mitigation planning and to facilitate the implementation of appropriate mitigation actions. These activities may include outreach efforts and products (brochures and videos, etc.) related to the proposed mitigation activity that will help with the progress of the DRU universities and serve as models for other universities.

DRU Mitigation Projects. Multi-hazard mitigation projects must primarily focus on natural hazards but may also address hazards caused by non-natural forces. The following are eligible types of mitigation projects:

• Structural and non-structural retrofitting (including designs and feasibility studies when included as part of the construction project) for wildfire, seismic, wind or flood hazards (e.g., elevation, storm shutters, hurricane clips—seismic bracing or reinforcement);

• Minor structural flood hazard control or protection projects that may include vegetation management, and stormwater management (e.g., culverts, floodgates, retention basins); and

• Localized flood control projects, such as certain ring levees and floodwall systems, that are designed specifically to protect critical facilities and that do not constitute a section of a larger flood control system.

Mitigation projects must also meet the following general criteria:

(1) Be cost-effective and substantially reduce the risk of future damage, hardship, loss, or suffering resulting from a major disaster, consistent with 44 CFR 206.434(c)(5) and related guidance, and have a Benefit-Cost Analysis that results in a benefit cost ratio of at least 1.0. Mitigation projects without a Benefit-Cost Analysis or with a benefit-cost ratio less than 1.0 will not be considered for the PDM DRU grants. Mitigation projects with higher benefit-cost ratios will be more competitive. Applicants may use programs or mechanisms other than the FEMA benefit-cost model to conduct the Benefit-Cost Analysis; however the methodology used must be consistent with the FEMA benefit-cost model and approved in advance by FEMA. For more information, see general PDM DRU Program Grant Guidance at www.fema.gov/fima/dru.shtm;

(2) Be in conformance with the current FEMA-approved State hazard mitigation plan and any existing local or university mitigation plans;

(3) Solve a problem independently or constitute a functional portion of a solution where there is assurance that the project as a whole will be completed, consistent with 44 CFR 206.434(c)(4);

(4) Be in conformance with 44 CFR Part 9, Floodplain Management and Protection of Wetlands, 44 CFR part 10, Environmental Considerations. For more information, see general PDM DRU Program Grant Guidance at www.fema.gov/fima/dru.shtm;

(5) Not duplicate the assistance that another Federal agency or program has the primary authority to provide, consistent with 44 CFR 206.434(g);

(6) Be located in a community that (a) does not have a SFHA, or (b) is participating in the NFIP if the community has an identified SFHA (a FHBM or FIRM has been issued). The community must not be on probation, suspended or withdrawn from the NFIP; and

(7) Meet the requirements of Federal, State, and local laws.

Up to 10 percent of the funds requested in the project sub-application may be used for information dissemination activities regarding cost-effective mitigation technologies in order to develop and maintain mutually beneficial partnerships among the DRU pilot universities, newly selected DRUs, and with underserved communities. Such activities should strive to promote a greater awareness of the institutional benefits of mitigation planning and to facilitate the implementation of appropriate mitigation actions. These activities may include outreach (brochures and videos, etc.) related to the proposed mitigation project that will help with the progress of the DRU universities and serve as models for other universities.

Applicant Management Costs. Applicants are encouraged to consider how to maximize the amount of funds used directly to benefit the university. Applicants may request up to 10 percent of the total planning and project grant funding requested for management costs to support the solicitation, review and processing of PDM DRU sub-applications and awards, and to provide technical assistance to Sub-Applicants, including assisting Sub-applicants with Benefit-Cost Analysis and environmental and historic documentation. Care must be taken not to provide more technical assistance to one Sub-Applicant than another to avoid the appearance of pre-selection. If requested, indirect costs must be included as part of management costs and must be supported with a current Indirect Cost Rate approved by a Federal Cognizant Agency. However, in no case will the amount of funding awarded for management costs exceed 10 percent of the total amount awarded for mitigation planning and project sub-grants. There is no waiver to increase Applicant Management Costs.

Applicants that request management costs must submit a separate sub-application for their management costs. Management costs must be supported with source documentation. Management costs will not affect competitiveness of planning or project proposals submitted by the Applicant and do not need a Benefit-Cost Analysis. Funding for Applicant management costs will not be awarded until all planning and project sub-applications have been awarded to ensure that Applicant management costs do not exceed 10 percent of the total planning and project sub-grant awards. Management costs will be cost shared with up to 75 percent of eligible costs provided by FEMA and at least 25 percent provided by a non-Federal source to the maximum Federal share approved by FEMA.

Sub-Applicant Management Costs. Sub-Applicants may request a maximum of 5 percent of the total grant funding requested for management costs to support approved planning activities or projects. Sub-Applicant management costs must be supported with budget narrative clearly justifying all proposed costs. Sub-Applicant management costs must be included as part of the planning activity or project costs and, therefore, must be included in the Benefit-Cost Analysis for projects. If requested, indirect costs must be included as part of the Management Costs and must be supported with a current Indirect Cost Rate approved by a Federal Cognizant Agency. There is no waiver to increase Sub-Applicant Management Costs.

Ineligible Activities

Ineligible Mitigation Projects. The following mitigation projects are ineligible for the PDM program:

• Major flood control projects such as dikes, levees, floodwalls, seawalls, groins, jetties, dams, waterway channelization; beach nourishment or renourishment;

• Warning systems;

• Engineering designs that are not integral to a proposed project;

• Feasibility studies that are not integral to a proposed project;

• Drainage studies that are not integral to a proposed project;

• Generators that are not integral to a proposed project;

• Phased or partial projects;

• Flood studies or mapping; and

• Response and communication equipment.

Cost Overruns. The PDM DRU program is a competitive grant program and therefore award amounts are final. There are no cost overruns associated with this program.

Cost Share Requirement

FEMA will contribute up to 75 percent of the total amount approved under the grant award, to implement approved activities. At least 25 percent of the total approved under the grant award must be provided from a non-Federal source. Grants awarded to small, impoverished communities may receive a Federal share of up to 90 percent of the total amount approved under the grant award, to implement eligible approved activities.

All non-Federal contributions, cash and in-kind, are accepted as part of the non-Federal share. Except as allowed by Federal statute, no other Federal funds can be used as a cost share. Requirements for in-kind contributions can be found in 44 CFR 13.24. In-kind contributions must be directly related to eligible program costs. The following documentation is required for third-party cash and in-kind contributions: record of source of donor, dates, rates, amounts, and deposit slips for cash contributions.

Evaluation and Award Processes

National Evaluation. Disaster Resistant University mitigation proposals for PDM DRU grants will be evaluated and selected based on the following considerations (each applies to all proposals, unless specified for “planning activities” or “projects”). The specific factors will carry more weight than the general criteria.

• The extent to which the proposal benefits a university (or universities) that demonstrates the following general criteria:

(1) Top level commitment to the concept of disaster resistance (Chancellor, President, etc.)

(2) Capability to successfully carry out proposed mitigation activities and initiatives (i.e., expertise to carry out the relevant studies and assessments of hazards and risk, their impacts on its facilities, and project implementation);

(3) For proposals benefiting former DRU universities, commitment to sustained mitigation demonstrated through past and ongoing DRU efforts, such as the selection of a DRU coordinator, partnering efforts, risk assessment and risk reduction planning activities, outreach and implementation of mitigation activities.

• The extent to which the proposal addresses the following specific factors, listed in order of importance, are:

(1) For mitigation planning activities, the university's assessment of risks by hazard (see Supplemental Questions);

(2) For mitigation projects,

a. Benefit-Cost ratio by hazard based on Applicant's Benefit-Cost Analysis;

b. Whether the project protects critical facilities;

c. Consistency with the State mitigation plan and any existing local/Tribal and university mitigation plans;

d. Consistency with Federal laws and Executive Orders to include National Environmental Policy Act, National Historic Preservation Act, Clean Water Act, Floodplain Management, and Seismic Safety of Federal Buildings; and Federal programs such as American Heritage Rivers Initiative, SBA Disaster Loan Program and EPA Watershed Initiative;

(3) The priority given to the sub-application by the Applicant;

(4) Overall size and proportion of university population that will benefit, such as:

a. Number of university employees and university-employer's rank (largest, second largest, etc. employer) in the community

b. Value of goods and services purchased by university within the community

c. University budget

d. Total economic impact of university on community—indicate the effect university would have on community if a disaster strikes (major job shortage, loss of medical services, etc.);

(5) Feasibility of methodology and outcome;

(6) Implementation involves reasonable timeline and expectations;

(7) Leverages State and local community involvement through partnerships;

(8) Identifies appropriate outreach activities that advance mitigation;

(9) Serves as a model for other universities;

(10) Innovation and creativity used as part of the best available options;

(11) Status of State/Tribal mitigation plans

(12) For community Sub-Applicants:

a. Status of the Sub-Applicant as a small, impoverished community.

b. Community mitigation factors, such as community incentives (tax credits, waiver of building permit fees, and building codes), Community Rating System class, Cooperating Technical Partner, participation as a Firewise Community, and adoption of codes to include Building Code Effectiveness Grading Schedule, International Code Series and National Fire Protection Association 5000 Code.

In making its selections, FEMA will also consider the PDM DRU National Priorities for FY 2003 funds. This includes mitigating a representative range of universities based on type of hazard addressed, geography, size, and academic community served, which includes consideration of Historically Black Colleges & Universities (HBCU) and Tribal Colleges & Universities (TCU). It also includes sustaining and building on prior DRU efforts through mitigation projects that reduce the risk of loss for past DRU universities.

Selection/Award. For FY 2003 PDM DRU grants, awards will be governed by Consolidated Appropriations Resolution, 2003, Public Law 108-7, section 203 of the Stafford Act, as amended by section 102 of the DMA, this notice, and PDM DRU program guidance, which will be made available to the public on the FEMA Web site: www.fema.gov/fima/dru.shtm.

The Headquarters Approving Federal Official shall consider the National Evaluation criteria and factors listed above, the National priorities, and other pertinent information to determine which sub-applications to approve. After the sub-applications are selected, FEMA Regional offices will work with Applicants whose sub-applications are selected to implement the grant award.

Environmental/Historic Preservation Review Process

FEMA has determined, in accordance with 44 CFR 10.8 (d)(2)(iii), that mitigation planning activities have no impact on the environment and will require no further environmental or historic preservation review. However, mitigation projects will require environmental/historic preservation review. Construction type activities usually require more extensive review, or even an environmental assessment with alternatives addressed, historic preservation consultation, or both. For selected mitigation projects that require any level of environmental/historic preservation review, FEMA will not award the grant and the Applicant may not initiate construction until FEMA has completed its review. FEMA will complete the environmental and historic preservation review with the assistance of both the Applicant and the Sub-Applicant.

If after review of the responses to the established environmental/historic questions, supporting documentation, and the consultations with regulatory/resource agencies, FEMA determines that certain compliance measures are required to address the environmental/historic impacts of a selected project, FEMA will notify the Applicant. The Applicant or Sub-Applicant may determine whether or not to accept the grant award based on the estimated additional cost of the compliance measures. The amount of the Federal share will not be increased to cover any additional costs. Therefore, it is essential that at the time of the application submission, Applicants and Sub-Applicants include costs associated with any anticipated environmental/historic preservation compliance measures or alternatives identified through the development of the environmental/historic preservation documentation in the project budget.

Reporting Requirements

The following report is required from universities that receive PDM DRU FY 03 funds:

• Self-Assessment: University recipients are to include a detailed self-assessment at the end of the year (December 2004) that highlights best practices, issues, and ways to improve the PDM DRU grant program.

The following reports are required from Applicants that are awarded PDM DRU grants (Grantees):

• Federal Cash Transaction Reports: If the Grantee uses the U.S. Department of Health and Human Services (HHS) Payment Management System-SMARTLINK, the Grantee shall submit a copy of the PMS 272 Cash Transaction Report submitted to HHS and to FEMA, as well.

• Financial Status Reports: The Grantee shall submit Financial Status Reports, SF 269 or FF 20-10, to the FEMA regional office within 30 days from the end of the first Federal quarter following the initial grant award. The Regional Director may waive this initial report. The Grantee shall submit quarterly financial status reports thereafter until the grant ends. Reports are due on January 30, April 30, July 30, and October 30.

• Performance Reports:

(1) The Grantee shall submit performance reports (no format requirements) to the FEMA Regional Office within 30 days after end of each quarter. Reports are due January 30, April 30, July 30 and October 30.

(2) Quarterly performance reports shall consist of a comparison of actual accomplishment of the approved activity and report the name, completion status, expenditure, and payment-to-date of each approved activity/sub-grant award under the Grant Award.

• Final Reports: The Grantee shall submit a Final Financial Status Report and Performance Report within 90 days from Grant Award Performance Period expiration date, per 44 CFR 13.50.

• Enforcement: In reference to 44 CFR 13.43 Enforcement, the Regional Director may suspend drawdowns from the HHS/Payment Management System-SMARTLINK or take other remedial actions for non-compliance if quarterly performance reports are not submitted.

Dated: December 22, 2003.
Anthony S. Lowe,
Mitigation Division Director, Emergency Preparedness and Response Directorate, Department of Homeland Security.

[FR Doc. 03-32020 Filed 12-30-03; 8:45 am]

BILLING CODE 9110-13-P